COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List commodities and services to be furnished by nonprofit agencies employing persons who are blind or have other severe disabilities.

EFFECTIVE DATE: January 8, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On February 4, April 14, July 28, October 13 and October 20, 2000 the Committee for Purchase From People Who Are Blind or Severely Disabled published notices (65 FR 5492, 20135, 46425, 60903, 63057) of proposed additions to the Procurement List.

Additions

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Line, Multi-Loop

1670-01-062-6304

Line, Multi-Loop

1670-01-062-6305

Services

Administrative Services

NASA Goddard Space Flight Center, Greenbelt, Maryland

Distribution/Logistics Service

Defense Supply Center—Philadelphia, Philadelphia

Pennsylvania North Central Region

Lansing, Michigan

Laundry Service

Anniston Army Depot, Anniston, Alabama

Management Services

Department of Housing & Urban Development, 909 1st Avenue, Suite 200, Seattle, Washington

Recycling Service

Naval Weapons Station, NAWS Recycling Center, China Lake, California

This action does not affect current contracts awarded prior to the effective date of this addition or options that may be exercised under those contracts.

Louis R. Bartalot,
Deputy Director (Operations).

[FR Doc. 00-31320 Filed 12-7-00; 8:45 am]

BILLING CODE 6353-01-P